FEDERAL ELECTION COMMISSION

Sunshine Act Meetings

FEDERAL REGISTER CITATION NOTICE OF PREVIOUS ANNOUNCEMENT: 88 FR 39254.

PREVIOUSLY ANNOUNCED TIME AND DATE OF THE MEETING: Wednesday, June 21, 2023 at 10:30 a.m. and its continuation at the conclusion of the open meeting on June 22, 2023.

CHANGES IN THE MEETING: The meeting also discussed:

Information the premature disclosure of which would be likely to have a considerable adverse effect on the implementation of a proposed Commission action.

CONTACT PERSON FOR MORE INFORMATION: Judith Ingram, Press Officer, Telephone: (202) 694-1220.

(Authority: Government in the Sunshine Act, 5 U.S.C. 552b.)

Vicktoria J. Allen,
Deputy Secretary of the Commission.

[FR Doc. 2023-13776 Filed 6-23-23; 4:15 pm]

BILLING CODE 6715-01-P